DEPARTMENT OF LABOR

Mine Safety and Health Administration

Petitions for Modification

The following parties have filed petitions to modify the application of existing safety standards under section 101(c) of the Federal Mine Safety and Health Act of 1977.

1. Brooks Run Mining Company, LLC

[Docket No. M-2004-040-C]

Brooks Run Mining Company, LLC, has filed a petition to modify the application of 30 CFR 75.1711 (Sealing of mines) to its Mine No. 3 (MSHA I.D. No. 46-06043) located in Webster County, West Virginia. The petitioner proposes to barricade or fence-off mine openings to prevent entrance to the Mine No. 3, instead of sealing mine openings. The petitioner states that the Mine No. 3 has remaining coal reserves that may be economically recoverable in the future; currently no miners are employed at the mine site; and the mine has been idle and the portals barricaded since October 5, 1999. The petitioner asserts that the proposed alternative method would provide at least the same measure of protection as the existing standard.

2. Relgis, Inc.

[Docket No. M-2004-041-C]

Relgis, Inc., 800 Main Street, Summersville, West Virginia 26651 has filed a petition to modify the application of 30 CFR 75.1103-4(a) (Automatic fire sensor and warning device systems; installation; minimum requirements) to its Lick Branch No. 2 Mine (MSHA I.D. No. 46-08676) located in Fayette County, West Virginia. The petitioner proposes to install a carbon monoxide monitoring system as an early warning fire detection system near the center and in the upper third of the belt entry in a location that would not expose personnel working on the system to unsafe situations. The petitioner states that sensors will not be located in intersections, abnormally high areas, or in other areas where airflow patterns do not permit products of combustion to be carried to the sensors. The petitioner asserts that the proposed alternative method would provide at least the same measure of protection as the existing standard.

Request for Comments

Persons interested in these petitions are encouraged to submit comments via e-mail to comments@msha.gov, by fax at (202) 693-9441, or by regular mail to the Office of Standards, Regulations, and Variances, Mine Safety and Health Administration, 1100 Wilson Boulevard, Room 2350, Arlington, Virginia 22209. All comments must be postmarked or received in that office on or before October 22, 2004. Copies of these petitions are available for inspection at that address.

Dated at Arlington, Virginia this 16th day of September 2004.
Marvin W. Nichols, Jr.,
Director, Office of Standards, Regulations, and Variances.

[FR Doc. 04-21230 Filed 9-21-04; 8:45 am]

BILLING CODE 4510-43-P